DEPARTMENT OF COMMERCE

National Oceanic and Atmospheric Administration

RIN 0648-XE598

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold a joint meeting of its American Samoa Regional Ecosystem Advisory Committee (REAC), American Samoa Advisory Panel (AP), Fishing Industry Advisory Committee (FIAC) (Hawaii members) and its Noncommercial Fishing Advisory Committee (NCFAC) (American Samoa members) as well as an American Samoa AP meeting. These meetings are to discuss and make recommendations on issues in American Samoa and the Western Pacific region.

DATES: The joint American Samoa REAC, AP, FIAC, and NCFAC meeting will be held on Wednesday, May 18, 2016 between 9 a.m. and 12 p.m. The American Samoa AP meeting will be held on Wednesday, May 11, 2016 between 4:30 p.m. and 7:30 p.m. For agendas, see SUPPLEMENTARY INFORMATION.

ADDRESSES: The joint American Samoa REAC, AP, FIAC, and NCFAC meeting and the American Samoa AP meeting will be held in the American Samoa Department of Commerce's Fagatogo Market Conference Room, Fagatogo, HI 96799.

FOR FURTHER INFORMATION CONTACT: Kitty M. Simonds, Executive Director, phone: (808) 522-8220.

SUPPLEMENTARY INFORMATION: Public comment periods will be provided throughout the agendas. The order in which agenda items are addressed may change. The meetings will run as late as necessary to complete scheduled business.

Agenda for the Joint American Samoa REAC, AP, FIAC, and NCFAC Meeting

Wednesday, May 18, 2016, 9 a.m.-12 p.m.

1. Welcome and Introductions

2. Report on Changes to the Pelagic and Archipelagic Annual Fisheries Reports

3. Review of Annual Report Fishery Performance Information

A. Bottomfish

B. Coral Reef

C. Crustaceans

D. Precious Corals

E. Pelagics

4. Review of Annual Report Ecosystem Considerations Information and Data Gaps

A. Habitat

B. Protected Species

C. Human Dimensions

D. Climate Variables

E. Marine Planning

F. Data Integration

5. Report on FEP Implementation Activities

6. Public Comment

7. Discussion and Recommendations

Agenda for the American Samoa AP Meeting

Wednesday, May 11, 2016, 4:30 p.m.-7:30 p.m.

1. Welcome and Introductions

2. American Samoa FEP Community Activities

3. American Samoa FEP AP Issues

A. Island Fisheries

B. Pelagic Fisheries

C. Ecosystems and Habitat

D. Indigenous and Fishing Communities

E. Other Issues

4. Public Comment

5. Discussion and Recommendations

6. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 26, 2016.
Jeffrey N. Lonergan,
Acting Deputy Director, Office of Sustainable Fisheries, National Marine Fisheries Service.

[FR Doc. 2016-10162 Filed 4-28-16; 8:45 am]

BILLING CODE 3510-22-P